DEPARTMENT OF STATE

[Public Notice: 10432]

In the Matter of the Amendment of the Designation of Al-Nusrah Front (and Other Aliases) as a Foreign Terrorist Organization Pursuant to Section 219 of the Immigration and Nationality Act, as Amended

Based upon a review of the Administrative Record assembled pursuant to Section 219 of the Immigration and Nationality Act, as amended (8 U.S.C. 1189) (“INA”), and in consultation with the Attorney General and the Secretary of the Treasury, I have concluded that there is a sufficient factual basis to find that the following are aliases of Al-Nusrah Front (and other aliases): Hay'at Tahrir al-Sham, also known as Hay'et Tahrir al-Sham, also known as Hayat Tahrir al-Sham, also known as HTS, also known as Assembly for the Liberation of Syria, also known as Assembly for Liberation of the Levant, also known as Liberation of al-Sham Commission, also known as Liberation of the Levant Organisation, also known as Tahrir al-Sham, also known as Tahrir al-Sham Hay'at.

Therefore, pursuant to Section 219(b) of the INA, as amended (8 U.S.C. 1189(b)), I hereby amend the designation of Al-Nusrah Front as a foreign terrorist organization to include the following new aliases: Hay'at Tahrir al-Sham, also known as Hay'et Tahrir al-Sham, also known as Hayat Tahrir al-Sham, also known as HTS, also known as Assembly for the Liberation of Syria, also known as Assembly for the Liberation of the Levant, also known as Liberation of al-Sham Commission, also known as Liberation of the Levant Organisation, also known as Tahrir al-Sham, also known as Tahrir al-Sham Hay'at.

This determination shall be published in the Federal Register.

Dated: May 17, 2018.
Michael Pompeo,
Secretary of State.

[FR Doc. 2018-11797 Filed 5-31-18; 8:45 am]

BILLING CODE 4710-AD-P